DEPARTMENT OF COMMERCE

National Oceanic and Atmospheric Administration

[I.D. 012304B]

Fisheries of the Exclusive Economic Zone Off Alaska; Groundfish of the Gulf of Alaska; Exempted Fishing Permit

AGENCY: National Marine Fisheries Service (NMFS), National Oceanic and Atmospheric Administration (NOAA), Commerce.

ACTION: Issuance of an Exempted Fishing Permit (EFP).

SUMMARY: NMFS announces the issuance of EFP 04-01 to the Alaska Fisheries Development Foundation (applicant). The EFP authorizes the applicant to develop and test hook-and-line gear for rockfish harvest in the Southeast Outside District (SEO) of the Gulf of Alaska (GOA) that historically had been harvested with trawl gear. This EFP is necessary to provide information not otherwise available through research or commercial fishing operations. The intended effect of this action is to promote the purposes and policies of the Magnuson-Stevens Fishery Conservation and Management Act (Magnuson-Stevens Act).

ADDRESSES: Copies of the EFP and the Environmental Assessment (EA) prepared for the EFP are available from Lori J. Durall, Alaska Region, NMFS, P.O. Box 21668, Juneau, AK 99802.

FOR FURTHER INFORMATION CONTACT: Melanie Brown, 907-586-7228 or melanie.brown@noaa.gov.

SUPPLEMENTARY INFORMATION: The Fishery Management Plan for Groundfish of the Gulf of Alaska authorizes the issuance of EFPs to fish for groundfish in a manner that would otherwise be prohibited under existing regulations. The procedures for issuing EFPs are set out at 50 CFR 679.6.

On February 5, 2004, NMFS announced in the Federal Register the receipt of an application for an EFP (69 FR 5509). The applicant requested authorization to develop and test hook-and-line gear for rockfish harvest in the SEO of the GOA. Pacific ocean perch, pelagic shelf rockfish, and other slope rockfish historically have been harvested in this area by trawl gear. Trawling in the SEO has been prohibited since March 23, 1998 (63 FR 8356, February 19, 1998). This EFP will provide information not otherwise available through research or commercial fishing operations because it is not economically feasible for vessels to participate in an experiment of this extent and rigor during the commercial fisheries. The goal of this project is to improve the utilization of rockfish species in the SEO in ways that are consistent with Magnuson-Stevens Act national standard 1, which directs that conservation and management measures must achieve optimum yield from each fishery, and national standard 5, which seeks to promote efficiency in the utilization of fishery resources.

The Regional Administrator has approved the EFP application and has issued EFP 04-01 to the applicant. Details of the project are in the environmental assessment prepared for this action (see ADDRESSES). The project has two phases: (1) development of two hook-and-line gear types that can be effectively handled on typical Southeast Alaska fishing vessels and that successfully target rockfish species, and (2) comparative testing of the gear types developed in Phase I in terms of catch of target rockfish species per unit of effort and incidental catch of nontarget species. Because this project is in two phases, the applicant is permitted to conduct Phase I activities only, with permitting for Phase II contingent on the final report from Phase I and the Alaska Fisheries Science Center's approval of the experimental design for Phase II. The time period of the project is April 15, 2004, through April 15, 2005, with the possibility to extend the permit up to 12 months in case unforseen events delay completion of the project.

The EFP is necessary to allow the applicant to develop and test hook-and-line gear for rockfish in the SEO with certain exemptions from fishery closures, prohibited species catch (PSC) limits, and fish retention and discard requirements. The exemptions are necessary to allow the permit holder to efficiently conduct the testing and to reduce potential impacts on other hook-and-line fisheries. The EFP provides exemptions from: (1) hook-and-line fishery closures under 50 CFR 679.7(a)(2) due to reasons other than overfishing concerns, (2) individual fishing quota retention requirements under 50 CFR 679.7(f)(11), (3) PSC limits for halibut under the GOA annual harvest specifications (69 FR 9261, February 27, 2004) and 50 CFR 679.21(d)(4)(iii)(C), and (4) maximum retainable amounts for rockfish fisheries under 50 CFR 679.20(e). The total amount of groundfish allowed to be harvested is 179 metric tons (mt), including a 10 mt limit on sablefish. Because sufficient total allowable catch (TAC) amounts are available in the SEO for the rockfish species likely to be taken during the project, all groundfish, except sablefish, will be deducted from the annual TAC amounts specified in the annual harvest specifications (69 FR 9261, February 27, 2004). Hook-and-line sablefish is fully allocated and managed under the individual fishing quota (IFQ) program pursuant to 50 CFR 679.40, therefore, no sablefish may be retained during the project nor counted against the annual sablefish TAC. Halibut mortality is limited to 2 mt.

Fishing contrary to notification of inseason actions, closures, or adjustments under 50 CFR 679.20, 679.21, and 679.25 is prohibited by 50 CFR 679.7(a)(2). The applicant is exempt from this prohibition to allow the project to proceed without interruption. The PSC limit for halibut may be reached during the project time period, requiring the closure of the hook-and-line fisheries in accordance with 50 CFR 679.25. Because the amounts of halibut bycatch in the hook-and-line Pacific cod fishery has caused the closure of all hook-and-line fisheries (except demersal shelf rockfish) GOA-wide in the spring of 1999, 2000, and 2001, and in the fall of 2003, the closure of the hook-and-line fisheries in the GOA is likely. The halibut mortality during the project will not be counted against the PSC limit so that other hook-and-line fisheries will not be impacted by the project.

The EFP allows the retention and sale of all groundfish species (except sablefish) taken while fishing under the EFP to offset some of the costs of the project. The applicant is exempt from the maximum retainable amounts specified in Table 10 of 50 CFR part 679 for rockfish fisheries. Because demersal shelf rockfish (DSR) are managed by the State of Alaska, which has special provisions for the retention and sale of DSR, the EFP will not relieve the applicant from compliance with the State's DSR regulations at 5 AAC 28.171. These regulations require full retention of DSR but limit the numbers of DSR that may be sold for revenue to the harvester.

Because the applicant is required to discard all halibut and sablefish, the permit exempts the applicant from the retention requirement of 50 CFR 679.7(f)( 11). Under this regulation, all halibut and sablefish are required to be retained if a person on the vessel has IFQ available for halibut or sablefish for that class of vessel. Recruiting qualified individuals for the project would be difficult if the IFQ retention requirement was applied because the project does not provide an efficient use of IFQ. Because qualified participants are likely to be IFQ holders who would not want to use their IFQ during the project, the applicant is exempted from the retention requirements. All halibut and sablefish caught will be returned to the sea with minimal injury.

The applicant expects to harvest the following amounts of groundfish species during the project: 50 mt each of Pacific ocean perch, other slope rockfish, and pelagic shelf rockfish; 15 mt of rougheye/shortraker rockfish; 2 mt each of thornyhead rockfish and DSR; 10 mt of sablefish and 2 mt of halibut mortality. These levels of harvest and manner of harvest are determined to not have a significant impact on the human environment, as described in the EA (see ADDRESSES).

All fishing under the EFP will stop if the groundfish or halibut mortality limits in the EFP are reached. The Regional Administrator may modify the EFP to allow continuation of the project after consideration of factors including: (1) the present amount of harvest of groundfish species by the groundfish fisheries compared to the annual TACs, (2) the progress of the project to date, and (3) the potential impacts of any modification of the EFP. A draft report will be available to the public 60 days after the completion of Phase I. A final report of the results of the experiment will be made available to the public approximately six months after the end of Phase II.

Failure to comply with the terms and conditions of the EFP and all applicable provisions of 50 CFR parts 600 and 679, the Magnuson-Stevens Act, or any regulations promulgated thereunder, or any other applicable laws, may be grounds for revocation, suspension, or modification of this permit as well as civil or criminal sanctions imposed under those laws.

Classification

NMFS prepared an EA for this EFP. The Alaska Regional Administrator for NMFS concluded that no significant impact on the human environment will occur as a result of fishing under this EFP. A copy of the EA is available from NMFS (see ADDRESSES).

The Regional Administrator determined that fishing activities conducted pursuant to this EFP will not affect endangered and threatened species listed or critical habitat designated under the Endangered Species Act. Because fishing activities under this EFP will have no effects on essential fish habitat, a consultation is not required under the essential fish habitat provisions of the Magnuson-Stevens Act.

This notice is exempt from review under E.O. 12866 and the Regulatory Flexibility Act (RFA). The analytical requirements of the RFA are inapplicable because prior notice and opportunity for public comment are not required for this notice.

Authority: 16 U.S.C. 1801 et seq.

Dated: April 2, 2004.
Bruce C. Morehead,
Acting Director, Office of Sustainable Fisheries, National Marine Fisheries Service.

[FR Doc. 04-7903 Filed 4-6-04; 8:45 am]

BILLING CODE 3510-22-S